DEPARTMENT OF THE TREASURY

Submission for OMB Review; Comment Request

January 6, 2004.

The Department of Treasury has submitted the following public information collection requirement(s) to OMB for review and clearance under the Paperwork Reduction Act of 1995, Pub. L. 104-13. Copies of the submission(s) may be obtained by calling the Treasury Bureau Clearance Officer listed. Comments regarding this information collection should be addressed to the OMB reviewer listed and to the Treasury Department Clearance Officer, Department of the Treasury, Room 11000, 1750 Pennsylvania Avenue, NW Washington, DC 20220.

Dates: Written comments should be received on or before February 13, 2004 to be assured of consideration.

Internal Revenue Service (IRS)

OMB Number: 1545-1829.

Form Number: IRS Form 8836 and Schedules A & B.

Type of Review: Extension.

Title: Qualifying Children Residency Statement.

Description: Form 8836 is necessary to establish the residence of a child for purposes of the Earned Income Credit (EIC). The form will determine if the child is a qualifying child of the taxpayer when taking the EIC.

Respondents: Individuals or households.

Estimated Number of Respondents/Recordkeepers: 25,000.

Estimated Burden Hours Respondent/Recordkeeper:

| Form 8836 (in minutes) | Schedule A (in minutes) | Schedule B (in minutes)
Recordkeeping | 6 |  |
Learning about the law or the form | 14 | 5 | 4
Preparing the form | 11 | 12 | 18
Copying, assembling, and sending the form to the IRS | 20 | 20 | 20

Frequency of Response: Annually.

Estimated Total Reporting/Recordkeeping Burden: 38,070 hours.

OMB Number: 1545-1856.

Form Number: IRS Form 13362.

Type of Review: Revision.

Title: Consent to Disclosure of Return Information.

Description: The Consent Form is provided to external applicant that will allow the Service the ability to conduct tax checks to determine if an applicant's suitability for employment once they are determined qualified and within reach to receive an employment offer.

Respondents: Federal Government.

Estimated Number of Respondents/Recordkeepers: 46,000.

Estimated Burden Hours Respondent/Recordkeeper: 10 minutes.

Estimated Total Reporting/Recordkeeping Burden: 7,664 hours.

Clearance Officer: Robert M. Coar, (202) 622-3579, Internal Revenue Service, Room 6411, 1111 Constitution Avenue, NW., Washington, DC 20224.

OMB Reviewer: Joseph F. Lackey, Jr., (202) 395-7316, Office of Management and Budget, Room 10235, New Executive Office Building, Washington, DC 20503.

Lois K. Holland,
Treasury PRA Clearance Officer.

[FR Doc. 04-795 Filed 1-13-04; 8:45 am]

BILLING CODE 4830-01-P